DEPARTMENT OF COMMERCE

International Trade Administration

[A-533-848 and C-533-849]

Commodity Matchbooks From India: Continuation of Antidumping Duty and Countervailing Duty Orders

AGENCY: Enforcement and Compliance, International Trade Administration, Department of Commerce.

SUMMARY: As a result of the determinations by the Department of Commerce (the Department) and the International Trade Commission (the ITC) in their five year (sunset) reviews that revocation of the antidumping duty (AD) and countervailing duty (CVD) orders on commodity matchbooks from India would likely lead to a continuation or recurrence of dumping and a countervailable subsidy, as well as material injury to an industry in the United States, the Department is publishing a notice of continuation for the AD and CVD orders.

DATES: Effective Date: April 30, 2015.

FOR FURTHER INFORMATION CONTACT: David Crespo (AD), Office II, and Jacqueline Arrowsmith (CVD), Office VII, AD/CVD Operations, Enforcement and Compliance, International Trade Administration, U.S. Department of Commerce, 14th Street and Constitution Avenue NW., Washington, DC 20230; telephone: (202) 482-3693 and (202) 482-5255, respectively.

SUPPLEMENTARY INFORMATION:

Background

On November 3, 2014, the Department initiated sunset reviews on the AD and CVD orders on commodity matchbooks from India pursuant to section 751(c) of the Tariff Act of 1930, as amended (the Act).¹ As a result of the reviews, the Department found that revocation of the AD order on commodity matchbooks from India would be likely to lead to the continuation or recurrence of dumping, and notified the ITC of the margins of dumping likely to prevail should the order be revoked.² The Department also found that revocation of the CVD order on commodity matchbooks from India would be likely to lead to the continuation or recurrence of a countervailable subsidy, and notified the ITC of the net countervailable subsidy that is likely to prevail should the order be revoked.³

¹ See Initiation of Five-Year (“Sunset”) Review, 79 FR 65186 (November 3, 2014).

² See Commodity Matchbooks from India: Final Results of the Expedited First Sunset Review of the Antidumping Duty Order, 80 FR 12801 (March 11, 2015).

³ See Commodity Matchbooks from India: Final Results of Expedited Sunset Review of the Countervailing Duty Order, 80 FR 12800 (March 11, 2015) (CVD Final Results).

On April 17, 2015, the ITC published its determination, pursuant to sections 751(c) and 752(a) of the Act, that revocation of the AD and CVD orders on commodity matchbooks from India would be likely to lead to the continuation or recurrence of material injury to an industry in the United States within a reasonably foreseeable time.⁴

⁴ See Commodity Matchbooks from India; Determinations, 80 FR 21263 (April 17, 2015).

Scope of the Orders

The scope of the orders covers commodity matchbooks, also known as commodity book matches, paper matches or booklet matches.⁵ Commodity matchbooks typically, but do not necessarily, consist of twenty match stems which are usually made from paperboard or similar material tipped with a match head composed of any chemical formula. The match stems may be stitched, stapled or otherwise fastened into a matchbook cover of any material, on which a striking strip composed of any chemical formula has been applied to assist in the ignition process.

⁵ Such commodity matchbooks are also referred to as “for resale” because they always enter into retail channels, meaning businesses that sell a general variety of tangible merchandise, e.g., convenience stores, supermarkets, dollar stores, drug stores and mass merchandisers.

Commodity matchbooks included in the scope of these orders may or may not contain printing. For example, they may have no printing other than the identification of the manufacturer or importer. Commodity matchbooks may also be printed with a generic message such as “Thank You” or a generic image such as the American Flag, with store brands (e.g., Kroger, 7-Eleven, Shurfine or Giant); product brands for national or regional advertisers such as cigarettes or alcoholic beverages; or with corporate brands for national or regional distributors (e.g., Penley Corp. or Diamond Brands). They all enter retail distribution channels. Regardless of the materials used for the stems of the matches and regardless of the way the match stems are fastened to the matchbook cover, all commodity matchbooks are included in the scope of these orders. All matchbooks, including commodity matchbooks, typically comply with the United States Consumer Product Safety Commission (CPSC) Safety Standard for Matchbooks, codified at 16 CFR 1202.1 et seq.

The scope of these orders excludes promotional matchbooks, often referred to as “not for resale,” or “specialty advertising” matchbooks, as they do not enter into retail channels and are sold to businesses that provide hospitality, dining, drinking or entertainment services to their customers, and are given away by these businesses as promotional items. Such promotional matchbooks are distinguished by the physical characteristic of having the name and/or logo of a bar, restaurant, resort, hotel, club, café/coffee shop, grill, pub, eatery, lounge, casino, barbecue or individual establishment printed prominently on the matchbook cover. Promotional matchbook cover printing also typically includes the address and the phone number of the business or establishment being promoted.⁶ Also excluded are all other matches that are not fastened into a matchbook cover such as wooden matches, stick matches, box matches, kitchen matches, pocket matches, penny matches, household matches, strike-anywhere matches (aka “SAW” matches), strike-on-box matches (aka “SOB” matches), fireplace matches, barbeque/grill matches, fire starters, and wax matches.

⁶ The gross distinctions between commodity matchbooks and promotional matchbooks may be summarized as follows: (1) If it has no printing, or is printed with a generic message such as “Thank You” or a generic image such as the American Flag, or printed with national or regional store brands or corporate brands, it is commodity; (2) if it has printing, and the printing includes the name of a bar, restaurant, resort, hotel, club, café/coffee shop, grill, pub, eatery, lounge, casino, barbecue, or individual establishment prominently displayed on the matchbook cover, it is promotional.

The merchandise subject to these orders is properly classified under subheading 3605.00.0060 of the Harmonized Tariff Schedule of the United States (HTSUS). Subject merchandise may also enter under subheading 3605.00.0030 of the HTSUS. Although the HTSUS subheadings are provided for convenience and customs purposes, the written description of the scope of these orders is dispositive.⁷

⁷ The Department inadvertently omitted the HTSUS numbers for the merchandise subject to the CVD Order in the “Scope of the Order” section in the CVD Final Results. However, the complete description of the scope of the Orders is included in this notice, above.

Determination

As a result of the determinations by the Department and the ITC that revocation of these AD and CVD duty orders would likely lead to the continuation or recurrence of dumping and a countervailable subsidy, as well as material injury to an industry in the United States, pursuant to section 751(d)(2) of the Act, the Department hereby orders the continuation of the AD and CVD orders on commodity matchbooks from India. U.S. Customs and Border Protection will continue to collect AD and CVD cash deposits at the rates in effect at the time of entry for all imports of subject merchandise.

The effective date of the continuation of these orders will be the date of publication in the Federal Register of this notice of continuation. Pursuant to section 751(c)(2) of the Act, the Department intends to initiate the next sunset review of these orders not later than 30 days prior to the fifth anniversary of the effective date of continuation.

These sunset reviews and this notice are in accordance with sections 751(c) and 751(d)(2) of the Act, and published pursuant to 777(i) of the Act and 19 CFR 351.218(f)(4).

Dated: April 24, 2015.
Paul Piquado,
Assistant Secretary for Enforcement and Compliance.

[FR Doc. 2015-10133 Filed 4-29-15; 8:45 am]

BILLING CODE 3510-DS-P